DEPARTMENT OF VETERANS AFFAIRS

Health Services Research and Development Service Merit Review Board; Notice of Meeting

The Department of Veterans Affairs (VA) gives notice under Public Law 92-463 (Federal Advisory Committee Act) that a meeting of the Health Services Research and Development Service Merit Review Board will be held March 2-4, 2010, at the Hilton Tampa Airport Westshore, 2225 North Lois Avenue, Tampa, FL. Various subcommittees of the Board will meet. Each subcommittee meeting of the Merit Review Board will be open to the public the first day for approximately one half-hour from 8 a.m. until 8:30 a.m. to cover administrative matters and to discuss the general status of the program. The remaining portion of the meetings will be closed. The closed portion of each meeting will involve discussion, examination, reference to, and oral review of the research proposals and critiques.

The purpose of the Board is to review research and development applications involving the measurement and evaluation of health care services, the testing of new methods of health care delivery and management, and nursing research. Applications are reviewed for scientific and technical merit. Recommendations regarding funding are submitted to the Chief Research and Development Officer.

On March 2, the subcommittee on Nursing Research Initiative will convene from 8 a.m. to 12 noon and Career Development will convene from 8 a.m. to 5 p.m. On March 3, Career Development will reconvene from 8 a.m. to 1 p.m. and five subcommittees on Health Services Research (A, D, E, and G [B/C]) will convene from 8 a.m. to 5 p.m. On March 4, the subcommittee for pilot proposal review (F) will convene from 8 a.m. to 3:30 p.m.

After the subcommittees meet, there will be a debriefing provided to members of the Health Services Research & Development Scientific Merit Review Board. The purposes of the debriefing are to discuss the outcomes of the review sessions and to ensure the integrity and consistency of the review process.

During the closed portion of each meeting, discussion and recommendations will include qualifications of the personnel conducting the studies (the disclosure of which would constitute a clearly unwarranted invasion of personal privacy), as well as research information (the premature disclosure of which would likely compromise significantly the implementation of proposed agency action regarding such research projects). As provided by subsection 10(d) of Public Law 92-463, as amended by Public Law 94-409, closing portions of each meeting is in accordance with 5 U.S.C. 552b(c)(6) and (9)(B).

Those who plan to attend the open session should contact Mrs. Kristy Benton-Grover, Scientific Merit Review Program Manager (124R), Health Services Research and Development Service, Department of Veterans Affairs, 810 Vermont Avenue, NW., Washington, DC 20420, or e-mail at Kristy.benton-grover@va.gov, at least five days before the meeting. For further information, please call (202) 461-1521.

Dated: January 21, 2010.
By Direction of the Secretary.
Vivian Drake,
Acting Committee Management Officer.

Scientific Merit Review Board

Health Services Research and Development Service, Department of Veterans Affairs, Hilton Tampa Airport Westshore, 2225 North Lois Avenue, Tampa, FL 33607-2355, Tel: 1-813-877-6688, Fax: 1-813-879-3264.

Agenda

Tuesday, March 2, 2010

7:30 a.m.-8 a.m. Check-in

8 a.m.-12 p.m. Nursing Research Initiative (NRI) Review

8 a.m.-5 p.m. Career Development Award (CDA) Review

4:30 p.m.-5:30 p.m. Director and Chair Meeting

5:30 p.m.-6 p.m. Coffee Reception

6 p.m.-7 p.m. Director's Opening Session

Wednesday, March 3, 2010

Meetings conducted simultaneously.

8 a.m.-1 p.m. Career Development Award (CDA) Review continued

8 a.m.-5 p.m. Health Services Research A, D, E, G (B/C)

Thursday, March 4, 2010

8 a.m.-3:30 p.m. Health Services Research F-Pilots

[FR Doc. 2010-1504 Filed 1-26-10; 8:45 am]

BILLING CODE P